DEPARTMENT OF AGRICULTURE

Farm Service Agency

Request for Extension of a Currently Approved Information Collection—Operating Loans; Policies, Procedures, Authorizations and Closings

AGENCY: Farm Service Agency, USDA.

ACTION: Notice and request for comments.

SUMMARY: In accordance with the Paperwork Reduction Act of 1995, the Farm Service Agency (FSA) is seeking comments from all interested individuals and entities on the extension and revision of a currently approved information collection used in support of the Farm Loan Programs (FLP). The collection of information from FLP applicants and commercial lenders is used to determine eligibility; financial feasibility and security positions when the applicant applies for direct loan assistance.

DATES: Comments on this notice must be received on or before September 29, 2003.

ADDRESSES: Comments concerning this notice should be addressed to: Cathy Quayle, Senior Loan Officer, USDA, Farm Service Agency, Loan Making Division, 1400 Independence Avenue, SW., Stop 0522, Washington, DC 20250-0522, and to: the Desk Office for Agriculture, Office of Information and Regulatory Affairs, Office of Management and Budget, Washington, DC 20503. Comments may be submitted by email to: cathyquayle@wdc.usda.gov. Copies of the information collection may be obtained by contacting Cathy Quayle.

FOR FURTHER INFORMATION CONTACT: Cathy Quayle, Loan Making Division, (202) 690-4018.

SUPPLEMENTARY INFORMATION: Title: Operating Loans; Policies, Procedures, Authorizations and Closings

OMB Control Number: 0560-0162

Expiration Date of Approval: February 29, 2004

Type of Request: Extension of a Currently Approved Information Collection.

Abstract: The information collected under OMB Control Number is 0560-0162 is necessary to effectively administer the operating loan program in accordance with the requirements in 7 CFR part 1941 as authorized by the Consolidated Farm and Rural Development Act. Specifically, the Agency uses the information to evaluate loan making or loan servicing proposals, and to process loan closings. The information is needed to evaluate an applicant's eligibility, and to determine if the operation is economically feasible and if the security offered in support of the loan is adequate.

Estimate of Respondent Burden: Public reporting burden for this collection of information is estimated to average .12 hours per response

Respondents: Individuals or households, businesses or other for profit and farms

Estimated Number of Respondents: 51,466

Estimated Number of Responses per Respondent: 1

Estimated Total Annual Burden on Respondents: 6,176

Comment is invited on: (a) Whether the collection of information is necessary for the above stated purposes and the proper performance of FSA, including whether the information will have practical utility; (b) the accuracy of the agency's estimate of burden, including the validity of the methodology and assumptions used; (c) ways to enhance the quality, utility and clarity of the information being collected; and (d) ways to minimize the burden of the collection of information on those who are to respond, including through the use of appropriate automated, electronic, mechanical, or other technological collection techniques or other forms of information technology.

All comments received in response to this notice, including names and addresses when provided, will be a matter of public record. Comments will be summarized and included in the Office of Management and Budget Approval.

Signed in Washington, DC on July 16, 2003.
James R. Little,
Administrator, Farm Service Agency.

[FR Doc. 03-19173 Filed 7-28-03; 8:45 am]

BILLING CODE 3410-05-P